DEPARTMENT OF THE TREASURY

Alcohol and Tobacco Tax and Trade Bureau

27 CFR Part 9

[Docket No. TTB-2016-0007; T.D. TTB-150; Ref: Notice No. 161]

RIN 1513-AC26

Establishment of the Cape May Peninsula Viticultural Area

AGENCY: Alcohol and Tobacco Tax and Trade Bureau, Treasury.

ACTION: Final rule; Treasury decision.

SUMMARY: The Alcohol and Tobacco Tax and Trade Bureau (TTB) establishes the approximately 126,635-acre “Cape May Peninsula” viticultural area in Cape May and Cumberland Counties, New Jersey. The viticultural area lies entirely within the established Outer Coastal Plain viticultural area. TTB designates viticultural areas to allow vintners to better describe the origin of their wines and to allow consumers to better identify wines they may purchase.

DATES: This final rule is effective May 7, 2018.

FOR FURTHER INFORMATION CONTACT: Kate M. Bresnahan, Regulations and Rulings Division, Alcohol and Tobacco Tax and Trade Bureau, 1310 G Street NW, Box 12, Washington, DC 20005; phone (202) 453-1039, ext. 151.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013 (superseding Treasury Order 120-01, dated January 24, 2003), to the TTB Administrator to perform the functions and duties in the administration and enforcement of these laws.

Part 4 of the TTB regulations (27 CFR part 4) authorizes the establishment of definitive viticultural areas and regulate the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

Cape May Peninsula Petition

TTB received a petition from Alfred Natali, owner of Natali Vineyards, LLC, on behalf of the ad hoc Cape May Wine Growers Association, proposing the establishment of the “Cape May Peninsula” AVA in Cape May and Cumberland Counties, New Jersey. The proposed Cape May Peninsula AVA is located entirely within the established Outer Coastal Plain AVA (27 CFR 9.207) and covers approximately 126,635 acres. There are 6 commercially-producing vineyards covering a total of approximately 115 acres distributed throughout the proposed AVA, and an additional 147 acres planned within the proposed AVA in the next few years.

The petition states that the proposed Cape May Peninsula AVA is bordered entirely by water and the New Jersey Pinelands (hereafter referred to as “the Pinelands”). Most of the proposed AVA is surrounded by the Atlantic Ocean and coastal communities that are less suitable for viticulture due to urban development and marshy conditions to the east, the Delaware Bay to the south and west, and smaller marshes, creeks, and streams in certain areas to the north and west. The remaining area to the immediate northwest of the proposed AVA is a section of the Pinelands that acts as a large transition zone between the proposed Cape May Peninsula AVA and the rest of the Outer Coastal Plain AVA.

According to the petition, the distinguishing features of the proposed AVA are its temperature and soils, with temperature being the most important distinguishing feature. The petition included information on growing degree days (GDD) from inside and outside of the proposed AVA. The petition states that the proposed Cape May Peninsula AVA is a Winkler Region III (3,001 to 3,500 GDDs), and the area northwest of the proposed AVA is a Winkler Region IV (3,501 to 4,000 GDDs). The petition also notes that the proposed AVA and its surrounding areas differ in terms of their extreme temperatures. The petition states that the average summertime high temperature in the proposed AVA is lower than that of the area to its northwest. The average wintertime low temperatures in the proposed AVA are higher than the wintertime low temperatures northwest of the proposed AVA. Another indicator of the climate difference between the proposed AVA and the area to its northwest is the number of frost-free days. The petition provides data showing that the proposed AVA has more frost-free days, and thus a longer growing season, than the area northwest of the proposed AVA.

With regard to the soils, according to the petition, well-drained soils within the proposed AVA include Downer, Evesboro, Sassafras, Fort Mott, Hooksan, Swainton, and Aura. All of these soils are present in the proposed AVA and in the surrounding areas; however, the surrounding areas also contain additional soils not found in the proposed AVA, including Hammonton, Waterford, Galetown, and Metapeake.

Notice of Proposed Rulemaking and Comments Received

TTB published Notice No. 161 in the Federal Register on September 8, 2016 (81 FR 62047), proposing to establish the Cape May Peninsula AVA. In the notice, TTB summarized the evidence from the petition regarding the name, boundary, and distinguishing features for the proposed AVA. The notice also compared the distinguishing features of the proposed AVA to the surrounding areas. For a detailed description of the evidence relating to the name, boundary, and distinguishing features of the proposed AVA, and for a detailed comparison of the distinguishing features of the proposed AVA to the surrounding areas, see Notice No. 161.

In Notice No. 161, TTB solicited comments on the accuracy of the name, boundary, and other required information submitted in support of the petition. In addition, given the proposed Cape May Peninsula AVA's location within the existing Outer Coastal Plain AVA, TTB solicited comments on whether the evidence submitted in the petition regarding the distinguishing features of the proposed AVA sufficiently differentiates it from the existing Outer Coastal Plain AVA. Finally, TTB requested comments on whether the geographic features of the proposed AVA are so distinguishable from the surrounding Outer Coastal Plain AVA that the proposed Cape May Peninsula AVA should no longer be part of the established AVA. The comment period closed November 7, 2016.

Comment Received

In response to Notice No. 161, TTB received one comment. Jim Quarella, President, Board of Directors, Outer Coastal Plain Vineyard Association (OCPVA) submitted the comment on behalf of the OCPVA. The OCPVA comment supported the establishment of the Cape May Peninsula AVA, noting that, as stated in the petition for the Cape May Peninsula AVA, climate is the main distinguishing feature of the proposed AVA. According to OCPVA, this is largely the result of the maritime effects of the Atlantic Ocean and Delaware Bay. Specifically, the comment states that, while the Outer Coastal Plain AVA benefits from the effects of these bodies of water in moderating temperature, these largely beneficial effects are even greater in the proposed Cape May Peninsula AVA, as it is closer to both bodies of water than the rest of the Outer Coastal Plain AVA.

While the OCPVA comment was submitted in support, it did identify several statements in the Cape May Peninsula AVA petition regarding the climate and soil of the Outer Coastal Plain that the OCPVA believes are inaccurate. TTB notes that the OCPVA comment did not recommend any changes to the proposed Cape May Peninsula boundary, nor did it suggest that the proposed AVA is so distinct that it should no longer be a part of the established AVA.

The OCPVA comment is summarized as follows:

Crop-Growing in the New Jersey Pinelands

According to the OCPVA comment, the Cape May Peninsula AVA petition incorrectly states that acid-loving blueberries and cranberries are the only serious commercial crops in the Pinelands due to the acidity of the soils. The OCPVA comment states that more than a dozen vineyards in the Pinelands produce wine grapes commercially within the Outer Coastal Plain AVA. The OCPVA also points out that the proposed Cape May Peninsula AVA contains areas unsuitable for growing wine grapes, such as the cranberry bogs along the northwestern edge of the proposed AVA.

TTB recognizes that there are regions of the Pinelands where the soils are less acidic, more fertile, and more suitable for viticulture. In fact, the proposed Cape May Peninsula AVA petition notes that the soils within the Pinelands generally become more fertile and less acidic as one moves from east to west through the region. TTB believes that soil acidity is still a relevant means of drawing a general distinction between the proposed AVA and the Pinelands region of the Outer Coastal Plain AVA.

Vitis Vinifera in the Outer Coastal Plain AVA

According to the OCPVA comment, the Cape May Peninsula AVA petition is incorrect in stating that, while 90 percent of the grapes grown in the proposed AVA are Vitis vinifera, hybrid and native grapes are grown in the rest of the Outer Coastal Plain AVA. The OCPVA comment states that some vineyards in the Outer Coastal Plain AVA, but outside of the proposed AVA, produce Vitis vinifera, and that all vineyards within the Outer Coastal Plain AVA could produce 100 percent Vitis vinifera if they chose to do so. The OCPVA comment added that a more accurate statement would be that “there may be some specific varieties of [Vitis] vinifera that the [proposed AVA] may be able to grow more sustainably than other regions of the Outer Coastal Plain.”

TTB does not disagree with the commenter's point that the Outer Coastal Plain AVA vineyard owners may be planting hybrid and native grape varietals rather than Vitis vinifera as a matter of choice. TTB also agrees that some specific varietals of grapes may be more suitable for growing in the proposed AVA than in other regions of the Outer Coastal Plain AVA. However, TTB notes that it appears that vineyard owners within the proposed AVA are making different planting choices than vineyard owners in other regions of the Outer Coastal Plain AVA, and that the different growing conditions in the proposed AVA are likely influencing those choices. These points do not undermine the basis for the proposed boundaries of the Cape May Peninsula AVA.

Temperature

With respect to the Cape May Peninsula petition's climate discussion, the OCVPA comment first questions the petition's reliance on climate data from a single location in the town of Millville to represent the entirety of the Outer Coastal Plain AVA that is outside of the proposed AVA. Noting that the Winkler climate region system was designed for use in California, the comment also asserts that the petition's use of Winkler regions to describe the climate of grape-growing regions in New Jersey is not as useful as using growing degree days (GDDs) or average growing season temperatures. The comment then generally asserts that the climates of both the proposed AVA and the remainder of the Outer Coastal Plain AVA are not as uniform as the petition claims. Specifically, the OCVPA comment states that portions of the proposed Cape May Peninsula AVA and portions of the Outer Coastal Plain AVA outside the proposed AVA are in the same Winkler region, have similar growing season lengths as determined by the number of frost-free days, and have similarly high extreme low temperatures.

While TTB recognizes that information from a single location cannot be understood to represent all of the area of an AVA, TTB also believes that data from regions in close proximity to proposed AVA borders can be informative. The town of Millville is located within the Outer Coastal Plain AVA just outside the boundary of the proposed Cape May Peninsula AVA. TTB believes that using climate data from Millville is appropriate to distinguish the proposed Cape May Peninsula AVA from the region of the Outer Coastal Plain that is immediately outside the proposed AVA's boundaries. TTB also notes that although the Winkler regions system was created for use in California,¹ the system is based on GDDs and is a useful method for comparing the general climates of grape-growing regions.² Furthermore, TTB notes that in addition to the Winkler region data, the proposed Cape May Peninsula AVA petition included GDD and average summer temperature data for both the proposed AVA and the portion of the Outer Coastal Plain AVA outside the proposed AVA.

¹ A.J. Winkler et al., General Viticulture 60-71 (2nd. Ed. 1974).

² A.J. Winkler et al., General Viticulture 60-61 (2nd. Ed. 1974).

While TTB notes it is not inconsistent with the requirements of part 9 of its regulations for an AVA to have some variations in its climate, the data provided in the OCPVA comment does suggest that the climate in the remainder of the Outer Coastal Plain AVA may not be as uniformly cooler than portions within the proposed AVA as the petition claimed. However, TTB believes that the data in the petition and in the OCPVA comment demonstrate that the proposed Cape May Peninsula AVA has a climate that is moderated by its proximity to large bodies of water to a greater extent than the overall Outer Coastal Plain AVA and is thus distinguishable from the overall climate of the Outer Coastal Plain AVA.

Soils

The OCPVA comment raises issues with the petition's description of the soils in the proposed Cape May Peninsula AVA and the Outer Coastal Plain AVA. The comment states that the proposed Cape May Peninsula AVA and the rest of the Outer Coastal Plain AVA both have areas of loamy sand and sandy loam soils and, in some places, even share some of the same soil types, including Sassafras sandy loam. The comment adds that the difference between loamy sands and sandy loams does not mean that one soil type is well-drained and the other is not. Finally, the OCPVA notes that over two-thirds of the area within the Outer Coastal Plain AVA has been identified by a Rutgers University study as moderately suitable or most suitable for grape growing based on soil drainage and arable soil.

TTB notes that while the Outer Coastal Plain AVA and the proposed Cape May Peninsula AVA may contain similar soils in places, the petition for the proposed AVA also states that the Outer Coastal Plain AVA contains soils not found in the proposed AVA. Therefore, TTB believes that soils sufficiently distinguish the proposed AVA from the remainder of the Outer Coastal Plain AVA.

TTB Determination

After careful review of the petition and the comment received in response to Notice No. 161, TTB finds that the evidence provided by the petitioner supports the establishment of the Cape May Peninsula AVA. Accordingly, under the authority of the FAA Act, section 1111(d) of the Homeland Security Act of 2002, and parts 4 and 9 of the TTB regulations, TTB establishes the “Cape May Peninsula” AVA in Cape May and Cumberland counties, New Jersey, effective 30 days from the publication date of this document.

TTB has also determined that the Cape May Peninsula AVA will remain part of the established Outer Coastal Plain AVA. As discussed in Notice No. 161, the surface layers of the Cape May Peninsula AVA and Outer Coastal Plain AVA are composed of sand, gravel, clay-based silt, and peat. Additionally, both the Outer Coastal Plain AVA and the Cape May Peninsula AVA have low elevations, soils with low amounts of fine silt, and longer growing seasons than the region of the State that is outside the Outer Coastal Plain AVA. However, due to its smaller size, the Cape May Peninsula AVA generally has less variability in soil types and climate than the larger AVA. The climate of the Cape May Peninsula AVA also benefits from being located in closer proximity to the Atlantic Ocean and the Delaware Bay than the remainder of the Outer Coastal Plain AVA. Specifically, the Cape May Peninsula AVA generally has higher growing degree day totals, a smaller range of frost-free days, and extreme high and low temperatures that are higher than the extreme temperatures of the Outer Coastal Plain AVA. While the distinguishing features of the proposed AVA and the Outer Coastal Plain AVA differ somewhat due to the marine influence of the Atlantic Ocean and the Delaware Bay, the two AVAs are still similar enough that the Cape May Peninsula AVA should remain within the Outer Coastal Plain AVA.

The establishment of the Cape May Peninsula AVA within the Outer Coastal Plain AVA is not an endorsement from TTB of the Cape May Peninsula AVA, nor is it an endorsement of the quality of the grapes or wine from the Cape May Peninsula AVA. TTB establishes AVAs within AVAs to show that the grape-growing conditions within larger AVAs can vary due to sometimes slight differences in temperature, precipitation, marine influence, soils, or other distinguishing features. The establishment of an AVA within a larger AVA allows vintners to better describe the origin of their wines and to allow consumers to better identify wines they may purchase.

Boundary Description

See the narrative description of the boundary of the Cape May Peninsula AVA in the regulatory text published at the end of this final rule.

Maps

The petitioner provided the required maps, and they are listed below in the regulatory text.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

With the establishment of this AVA, its name, “Cape May Peninsula,” will be recognized as a name of viticultural significance under § 4.39(i)(3) of the TTB regulations (27 CFR 4.39(i)(3)). The text of the regulation clarifies this point. Consequently, wine bottlers using the name “Cape May Peninsula” in a brand name, including a trademark, or in another label reference as to the origin of the wine, will have to ensure that the product is eligible to use the AVA name as an appellation of origin. TTB is not designating “Cape May,” standing alone, as a term of viticultural significance due to the current use of “Cape May,” standing alone, as a brand name on a wine label.

The establishment of the Cape May Peninsula AVA will not affect any existing AVA, and any bottlers using “Outer Coastal Plain” as an appellation of origin or in a brand name for wines made from grapes grown within the Outer Coastal Plain AVA will not be affected by the establishment of this new AVA. The establishment of the Cape May Peninsula AVA will allow vintners to use “Cape May Peninsula” and “Outer Coastal Plain” as appellations of origin for wines made primarily from grapes grown within the Cape May Peninsula AVA if the wines meet the eligibility requirements for the appellation.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this final rule is not a significant regulatory action as defined by Executive Order 12866 of September 30, 1993. Therefore, no regulatory assessment is required.

Drafting Information

Kate M. Bresnahan of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.262 to read as follows:

§ 9.262 Cape May Peninsula.

(a) Name. The name of the viticultural area described in this section is “Cape May Peninsula”. For purposes of part 4 of this chapter, “Cape May Peninsula” is a term of viticultural significance.

(b) Approved maps. The 11 United States Geological Survey (USGS) 1:24,000 scale topographic maps used to determine the boundary of the Cape May Peninsula viticultural area are titled:

(1) Ocean City, New Jersey, 1989;

(2) Marmora, New Jersey, 1989;

(3) Sea Isle City, New Jersey, 1952; photorevised, 1972;

(4) Woodbine, New Jersey, 1958; photorevised, 1972;

(5) Stone Harbor, New Jersey, 1955; photorevised, 1972;

(6) Wildwood, New Jersey, 1955; photorevised, 1972;

(7) Cape May, New Jersey, 1954; photorevised, 1972;

(8) Rio Grande, New Jersey, 1956; photorevised, 1972;

(9) Heislerville, New Jersey, 1957; photorevised, 1972;

(10) Port Elizabeth, New Jersey, 1956; photorevised, 1972; and

(11) Tuckahoe, New Jersey, 1956; photorevised, 1972.

(c) Boundary. The Cape May Peninsula viticultural area is located in Cape May and Cumberland Counties, New Jersey. The boundary of the Cape May Peninsula viticultural area is as described below:

(1) The beginning point is on the Ocean City quadrangle at the intersection of the 10-foot elevation contour and the Garden State Parkway, on the southern shore of Great Egg Harbor, northwest of Golders Point. Proceed southeast, then generally southwest along the meandering 10-foot elevation contour, crossing onto the Marmora quadrangle, then onto the Sea Isle City quadrangle, to the intersection of the 10-foot elevation contour with an unnamed road known locally as Sea Isle Boulevard; then

(2) Proceed northwesterly along Sea Isle Boulevard to the intersection of the road with U.S. Highway 9; then

(3) Proceed southwesterly along U.S. Highway 9 to the intersection of the highway with the 10-foot elevation contour south of Magnolia Lake; then

(4) Proceed generally southwesterly along the meandering 10-foot elevation contour, crossing onto the Woodbine quadrangle, then briefly back onto the Sea Isle City quadrangle, then back onto the Woodbine quadrangle, to the intersection of the 10-foot elevation contour with the western span of the Garden State Parkway east of Clermont; then

(5) Proceed southwest along the Garden State Parkway to the intersection of the road with Uncle Aarons Creek; then

(6) Proceed westerly (upstream) along Uncle Aarons Creek to the intersection of the creek with the 10-foot elevation contour near the headwaters of the creek; then

(7) Proceed easterly, then southwesterly along the 10-foot elevation contour, crossing onto the Stone Harbor quadrangle, then onto the northwesternmost corner of the Wildwood quadrangle, then onto Cape May quadrangle, to the intersection of the 10-foot elevation contour with State Route 109 and Benchmark (BM) 8, east of Cold Spring; then

(8) Proceed southeast, then south, along State Route 109 to the intersection of the road with the north bank of the Cape May Canal; then

(9) Proceed northwest along the north bank of the Cape May Canal to the intersection of the canal with the railroad tracks (Pennsylvania Reading Seashore Lines); then

(10) Proceed south along the railroad tracks, crossing the canal, to the intersection of the railroad tracks with the south bank of the Cape May Canal; then

(11) Proceed east along the canal bank to the intersection of the canal with Cape Island Creek; then

(12) Proceed south, then northwest along the creek to the intersection of the creek with a tributary running north-south west of an unnamed road known locally as 1st Avenue; then

(13) Proceed north along the tributary to its intersection with Sunset Boulevard; then

(14) Proceed northwest along Sunset Boulevard to the intersection of the road with Benchmark (BM) 6; then

(15) Proceed south in a straight line to the shoreline; then

(16) Proceed west, then northwest, then northeast along the shoreline, rounding Cape May Point, and continuing northeasterly along the shoreline, crossing onto the Rio Grande quadrangle, then onto the Heislerville quadrangle, to the intersection of the shoreline with West Creek; then

(17) Proceed generally north along the meandering West Creek, passing through Pickle Factory Pond and Hands Millpond, and continuing along West Creek, crossing onto the Port Elizabeth quadrangle, and continuing along West Creek to the fork in the creek north of Wrights Crossway Road; then

(18) Proceed along the eastern fork of West Creek to the cranberry bog; then

(19) Proceed through the cranberry bog and continue northeasterly along the branch of West Creek that exits the cranberry bog to the creek's terminus south of an unnamed road known locally as Joe Mason Road; then

(20) Proceed northeast in a straight line to Tarkiln Brook Tributary; then

(21) Proceed easterly along Tarkiln Brook Tributary, passing through the cranberry bog, crossing onto the Tuckahoe quadrangle, and continuing along Tarkiln Brook tributary to its intersection with the Tuckahoe River and the Atlantic-Cape May County line; then

(22) Proceed easterly along the Atlantic-Cape May County line, crossing onto the Marmora and Cape May quadrangles, to the intersection of the Atlantic-Cape May County line with the Garden State Parkway on the Cape May quadrangle; then

(23) Proceed south along the Garden State Parkway, returning to the beginning point.

Signed: October 30, 2017.
John J. Manfreda,
Administrator.
Approved: March 30, 2018
Timothy E. Skud,
Deputy Assistant Secretary (Tax, Trade, and Tariff Policy).

[FR Doc. 2018-07094 Filed 4-5-18; 8:45 am]

BILLING CODE 4810-31-P